ENVIRONMENTAL PROTECTION AGENCY

[EPA-HQ-OECA-2014-0044; FRL-9929-78-OEI]

Information Collection Request Submitted to OMB for Review and Approval; Comment Request; NESHAP for Coke Oven Batteries (Renewal)

AGENCY: Environmental Protection Agency (EPA).

ACTION: Notice.

SUMMARY: The Environmental Protection Agency has submitted an information collection request (ICR), “NESHAP for Coke Oven Batteries (40 CFR part 63, subpart L) (Renewal)” (EPA ICR No. 1362.10, OMB Control No. 2060-0253) to the Office of Management and Budget (OMB) for review and approval in accordance with the Paperwork Reduction Act (44 U.S.C. 3501 et seq.). This is a proposed extension of the ICR, which is currently approved through June 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 30, 2015.

ADDRESSES: Submit your comments, referencing Docket ID Number EPA-HQ-OECA-2014-0044, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: These standards apply to all coke oven batteries, whether existing, new, reconstructed, rebuilt, or restarted. It also applies to all batteries using the conventional by-product recovery, the non-recovery process, or any new recovery process. The 2005 amendments establish more stringent requirements for the control of hazardous air pollutants from coke oven batteries that chose to comply with maximum achievable control technology (MACT) standards under the 1993 rule.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. Any owner/operator subject to the provisions of this part shall maintain a file of these measurements, and retain the file for at least five years following the date of such measurements, maintenance reports, and records. All reports are sent to the delegated state or local authority. In the event that there is no such delegated authority, the reports are sent directly to the United States Environmental Protection Agency (EPA) regional office.

Form Numbers: None.

Respondents/affected entities: Coke oven batteries.

Respondent's obligation to respond: Mandatory (40 CFR part 63, subpart L).

Estimated number of respondents: 19 (total).

Frequency of response: Initially, occasionally, and semiannually.

Total estimated burden: 80,000 hours (per year). Burden is defined at 5 CFR 1320.3(b).

Total estimated cost: $8,020,000 (per year), includes no annualized capital or operation & maintenance costs.

Changes in the Estimates: There is an adjustment decrease in the total estimated respondent labor burden as currently identified in the OMB Inventory of Approved Burdens. This decrease is not due to any program changes. Rather, it was due to a discrepancy identified in the previous renewal, in which the number of by-product plants conducting daily leak inspections and bypass/bleeder stack/flare system inspections was overestimated. EPA has revised the estimates in this ICR to reflect the appropriate number of by-product plants. The net result of this adjustment was a decrease in respondent burden hours. There is also a small adjustment increase in the number of responses due to a correction. The previous ICR did not account for the notification of reconstruction, notification of battery closure, and malfunction report in calculating the number of responses.

Courtney Kerwin,
Acting Director, Collection Strategies Division.

[FR Doc. 2015-16031 Filed 6-29-15; 8:45 am]

BILLING CODE 6560-50-P